DEPARTMENT OF HOUSING AND URBAN DEVELOPMENT

[Docket No. FR-5188-N-04]

Notice of Proposed Information Collection: Comment Request: Relocation and Real Property Acquisition, Recordkeeping Requirements Under the Uniform Relocation Assistance and Real Property Acquisition Policies Act of 1970 (as Amended)

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: April 25, 2008.

ADDRESSES: Interested persons are invited to submit comments regarding this proposal. Comments should refer to the proposal by name and/or OMB Control Number and should be sent to: Pamela Williams, Reports Liaison Officer, Department of Housing and Urban Development, 451 7th Street, SW., Room 7234, Washington, DC 20410.

FOR FURTHER INFORMATION CONTACT: Bryan O'Neill, Relocation Specialist, Relocation and Real Estate Division, CGHR, Department of Housing and Urban Development, 451 Seventh Street, Southwest, Rm. 7168, Washington, DC 20410; e-mail Bryan.J.O'Neill@HUD.gov, (202) 708-2684. This is not a toll-free number. Copies of the proposed forms and other available documents submitted to OMB may be obtained from Mr. O'Neill.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Relocation and Real Property Acquisition, Recordkeeping Requirements under the Uniform Relocation Assistance and Real Property Acquisition Policies Act of 1970 (as amended).

OMB Control Number, if applicable: 2506-0121.

Description of the need for the information and proposed use: HUD funded projects involving the acquisition of real property or the displacement of persons as a direct result of acquisition, rehabilitation or demolition are subject to the Uniform Relocation Assistance and Real Property Acquisition Policies Act of 1970 (URA). Agencies receiving HUD funding for such projects are required to document their compliance with applicable requirements of the URA and its implementing government-wide regulations at 49 CFR part 24.

Agency form numbers, if applicable: None.

Estimation of the total numbers of hours needed to prepare the information collection including number of respondents, frequency of response, and hours of response.

Status of the proposed information collection: Renewal.

Number of Respondents: 2,000.

Frequency of Responses: 40.

Hours per Response: 3.5.

Burden Hours: 280,000.

Change: 0.

Authority: The Paperwork Reduction Act of 1995, 44 U.S.C. chapter 35, as amended.

Dated: February 15, 2008.
Nelson R. Bregón,
General Deputy Assistant Secretary for Community Planning and Development.

[FR Doc. E8-3526 Filed 2-22-08; 8:45 am]

BILLING CODE 4210-67-P